NATIONAL SCIENCE FOUNDATION

Agency Information Collection Activities: Comment Request.

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by February 13, 2023 to be assured consideration. Comments received after that date will be considered to the extent practicable. Send comments to address below.

FOR FURTHER INFORMATION CONTACT: Suzanne H. Plimpton, Reports Clearance Officer, National Science Foundation, 2415 Eisenhower Avenue, Suite E7400, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: National Science Foundation (NSF) Directorate for Technology, Innovation and Partnerships (TIP) Reviewer Request Form.

OMB Control No.: 3145-New.

Expiration Date of Approval: Not applicable.

Abstract: NSF has advanced the full spectrum of fundamental research and education in all fields of science, technology, engineering and mathematics, or STEM, for more than 70 years—from foundational, curiosity-driven research that has led to new knowledge about our world, to use-inspired, solution-oriented research that has directly impacted people's everyday lives. At every stage, investments across this spectrum have been deeply intertwined.

NSF's Directorate for Technology, Innovation, and Partnerships (TIP) doubles down on the agency's commitment to support use-inspired research and the translation of research results to the market and society. In doing so, the new directorate strengthens the intense interplay between foundational and use-inspired work, enhancing the full cycle of discovery and innovation. This is best illustrated through the programs within the TIP Directorate portfolio—America's Seed Fund, Convergence Accelerator, Innovation Corps (I-Corps), Partnerships for Innovation, Pathways to Enable Open-Source Ecosystems, and Regional Innovation Engines—all reflect and represent the various phases of the technology transition/translation spectrum, while accentuating the core theme of use-inspired and solution-oriented research.

Due to the specialized nature of these programs, it is necessary for the TIP Directorate to refine its reviewer recruitment efforts and reach out to individuals that have the adequate and appropriate combinations of expertise and experience to serve as proposal reviewers for these programs. To recruit cognizant reviewers that have the set of unique skills and credentials—ones that meet and align well with the needs of these programs, the NSF TIP Directorate requests the Office of Management and Budget (OMB) approval of a customizable, directorate-wide Reviewer Request Form to collect information that is germane and bespoke to each program within the TIP Directorate.

There are two parts to the Form. The first part is similar to the agency-wide Reviewer Request Form (NSF 428A), in that information pertaining to the individual's name, contact information, demographics, education level, and professional experience will be asked. The second part will vary based on the program, as some programs in TIP are more topically-driven, and/or theme-focused than others. The information collected on the second part encompasses, but is not limited to, the following areas: type of employing institutions, areas of expertise, provision of the individual's LinkedIn or professional web page, and potential conflict of interests. Such data collection will enable the Program Directors to better assess whether the combination of experience, expertise, and skills of the interested individuals are adequate and well-suited to help the programs to evaluate proposals through the merit review criteria as set forth by the agency and the National Science Board. (For more information on NSF merit review principles and criteria, please consult the NSF Proposal & Award Policies & Procedures Guides (PAPPG), Chapter III.A.)

Following standard OMB requirements, NSF will require OMB approval in advance and provide OMB with a copy of the form containing these questions and/or data fields. Data collected will be used strictly for reviewer recruiting purposes. The data collection burden to the individuals will be limited to no more than 10 minutes of the respondents' time in each instance.

Respondents: The respondents generally have the education and/or experience level commensurate to a university assistant professor.

Estimated Number of Annual Respondents: 3,500.

Burden on the Public: The overall annualized cost to the respondents is estimated to be $25,718. The following table shows the annualized estimate of costs to the respondents who generally have the education and/or experience level commensurate to university assistant professors. This estimated hourly rate is based on a report from the American Association of University Professors, “Annual Report on the Economic Status of the Profession, 2020-21,” Academe, March-April 2021, Survey Report Table 1. According to this report, the average salary of an assistant professor across all types of doctoral-granting institutions was $91,408. When divided by the number of standard annual work hours (2,080), this calculates to approximately $44 per hour.

Respondent type | Number of respondents | Burden hours per respondent | Average hourly rate | Estimated annual cost
PIs | 3500 | 0.167 | $44 | $25,718
Total |  |  |  | 25,718

Dated: December 8, 2022.
Suzanne H. Plimpton,
Reports Clearance Officer, National Science Foundation.

[FR Doc. 2022-27036 Filed 12-13-22; 8:45 am]

BILLING CODE 7555-01-P